FEDERAL MARITIME COMMISSION

[DOCKET NO. 12-10]

SBI International, Inc. v. Mr. Howard Finkel c/o Cosco Container Lines; Notice of Filing of Complaint and Assignment

Notice is given that a complaint has been filed with the Federal Maritime Commission (Commission) by SBI International, Inc., a corporation registered in Florida, hereinafter “Complainant,” against Mr. Howard Finkel c/o Cosco Container Lines, hereinafter “Respondent.”

Complainant alleges that “4 refrigerated containers originating from the USA port of Wilmington, NC consisting of USA frozen poultry belonging to the Shipper were detained since May/June 2012 in the China port of Xingang,” and that “Cosco Container Lines America failed to actively participate” in an informal dispute resolution processes pursued by “shipper” through the Commission's Office of Consumer Affairs and Dispute Resolution Services. Therefore, Complainant alleges that “shipper remains unable to retrieve his cargo valued at USD$164,176.81,” and that Respondent is in violation of sections 10(b)(1), 10(b)(3), 10(b)(4), 10(b)(4)(D), 10(b)(4)(E), and 10(b)(10) of the Ocean Shipping Reform Act of 1988.

Complainant requests that the Commission order Respondent to “cease and desist from the aforesaid violations of said acts; to establish and put in force such practices as the Commission determines to be lawful and reasonable; to pay to said Complainant by way of reparations and damages for the unlawful conduct herein described the sum of $164,176.81 with interest and attorney's fees (or time spent fees) or other such sum as the Commission may determine to be proper as an award of reparations; and that such other and further order or orders be made as the Commission determines to be just and proper in the premises.” The full text of the complaint can be found in the Commission's Electronic Reading Room at www.fmc.gov.

This proceeding has been assigned to the Office of Administrative Law Judges. The initial decision of the presiding officer in this proceeding shall be issued by November 29, 2013 and the final decision of the Commission shall be issued by March 31, 2014.

Karen V. Gregory,
Secretary.

[FR Doc. 2012-29399 Filed 12-4-12; 8:45 am]

BILLING CODE 6730-01-P